DEPARTMENT OF COMMERCE

National Oceanic and Atmospheric Administration

[RTID 0648-XA678]

Western Pacific Fishery Management Council; Pacific Island Fisheries; Public Meeting

AGENCY: National Marine Fisheries Service (NMFS), National Oceanic and Atmospheric Administration (NOAA), Commerce.

ACTION: Notice; public meeting.

SUMMARY: NMFS and the Western Pacific Fishery Management Council (Council) will convene a Western Pacific Stock Assessment Review (WPSAR) of a 2020 stock assessment update for seven deep-water bottomfish species (“Deep 7” bottomfish complex) in the Main Hawaiian Islands.

DATES: The WPSAR panel will meet on December 16-17, 2020. For specific times and agenda, see SUPPLEMENTARY INFORMATION.

ADDRESSES: The meeting will be held by web conference via WebEx. Audio and visual portions for all of the web conferences can be accessed at: https://wprfmc.webex.com/join/info.wpcouncilnoaa.gov. Web conference access information and instructions for providing public comments will be posted on the Council website at www.wpcouncil.org. For assistance with the web conference connection, contact the Council office at (808) 552-8220.

FOR FURTHER INFORMATION CONTACT: Kitty Simonds, Executive Director, Western Pacific Regional Fishery Management Council; telephone: (808) 522-8220.

SUPPLEMENTARY INFORMATION: The NMFS Pacific Islands Fisheries Science Center (PIFSC) conducted a stock assessment update for the Main Hawaiian Island Deep 7 bottomfish complex. PIFSC previously conducted a Benchmark stock assessment for the Deep 7 bottomfish in 2018 using a Bayesian surplus production model fit to commercial catch and effort data and independent survey biomass estimates. This assessment update used the methodology of the 2018 benchmark assessment and updated it with data through 2019.

PIFSC used this assessment update to estimate biomass and stock status of the Deep 7 bottomfish complex through time, and evaluated stock status against the maximum sustainable yield based reference points described in the Council's Fishery Ecosystem Plan for the Hawaii Archipelago. The 2020 assessment update provides projections to inform setting of acceptable biological catch and annual catch limits for 2021-24.

The WPSAR panel will meet virtually beginning at 9 a.m., Hawaii Standard Time (HST), each day. A public comment period will be provided at the end of the first day. The agenda order may change and the meeting will run as late as necessary to complete scheduled business.

Meeting Agenda

Wednesday, December 16, 2020, 9 a.m. to2 p.m. HST

1. Introduction

2. Review objectives and terms of reference

3. Review of stock assessment updates

4. Summary of comments and analysis during desktop phase

5. Questions to presenters

6. Public comment

Thursday, December 17, 2020, 9 a.m. to11 a.m. HST

7. Panel presentation on the review results and recommendations

8. Questions to reviewers

9. Adjourn

Special Accommodations

This virtual meeting will be accessible to people with disabilities. Please direct request for accommodations to the Council Office (see FOR FURTHER INFORMATION CONTACT) at least 5 days prior to the meeting date.

Authority: 16 U.S.C. 1801 et seq.

Dated: November 24, 2020.
Diane M. DeJames-Daly,
Acting Deputy Director, Office of Sustainable Fisheries, National Marine Fisheries Service.

[FR Doc. 2020-26317 Filed 11-27-20; 8:45 am]

BILLING CODE 3510-22-P